DEPARTMENT OF HEALTH AND HUMAN SERVICES

Administration for Children and Families

Advisory Committee on Head Start Research and Evaluation

AGENCY: Office of Planning, Research and Evaluation, ACF, HHS.

ACTION: Notice.

SUMMARY: This notice announces a forthcoming meeting of a public advisory committee of ACF. The meeting will be open to the public.

Name of Committee: Advisory Committee for Head Start Research and Evaluation.

General Function of Committee: The Advisory Committee for Head Start Research and Evaluation will provide feedback on the published final report for the Head Start Impact Study, offering interpretations of the findings, discussing implications for practice and policy, and providing recommendations on follow-up research, including additional analysis of the Head Start Impact Study data. The Committee will also be asked to provide recommendations to the Secretary regarding how to improve Head Start and other early childhood programs by enhancing the use of research-informed practices in early childhood. Finally, the Committee will be asked to provide recommendations on the overall Head Start research agenda, including—but not limited to—how the Head Start Impact Study fits within this agenda. The Committee will provide advice regarding future research efforts to inform HHS about how to guide the development and implementation of best practices in Head Start and other early childhood programs around the country.

DATES: The meeting will be held from 8:30 a.m. to 5 p.m. September 21-22, 2011.

ADDRESSES: Crowne Plaza Washington National Airport, 1480 Crystal Drive, Arlington, VA 22202, Phone: (703) 416-1600.

FOR FURTHER INFORMATION CONTACT: Jennifer Brooks, Office of Planning, Research, and Evaluation, e-mail jennifer.brooks@acf.hhs.gov or call (202) 205-8212.

Agenda: The Committee will review information on the federal and Early Head Start programs and the children and families they serve, and learn about the latest research in the area of health and mental health, cultural and linguistic responsiveness, and other topic areas related to early childhood education and development.

Procedure: Interested persons may present data, information or views, in writing, on issues pending before the Committee. Written submissions may be made to Jennifer Brooks at jennifer.brooks@acf.hhs.gov on or before September 1, 2011. All written materials provided to the contact person will be shared with the Committee members.

ACF welcomes the attendance of the public at this advisory committee meeting and will make every effort to accommodate persons with physical disabilities or special needs. If you require special accommodations due to a disability, please contact Jennifer Brooks at least seven days in advance of the meeting. Information about the Committee and this meeting can be found at the Committee Web site, http://www.acf.hhs.gov/programs/opre/hs/advisory_com/.

Notice of this meeting is given under the Federal Advisory Committee Act (5 U.S.C. app. 2).

Dated: June 29, 2011.
George H. Sheldon,
Acting Assistant Secretary for Children and Families.

[FR Doc. 2011-18098 Filed 7-18-11; 8:45 am]

BILLING CODE 4184-22-P